DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of February 17 through February 20, 2009.

In order for an affirmative determination to be made for workers of a primary firm and a certification issued regarding eligibility to apply for worker adjustment assistance, each of the group eligibility requirements of Section 222(a) of the Act must be met.

I. Section (a)(2)(A)—all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B)—both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-64,952; Heritage Footwear, Inc., Fort Payne, AL: January 14, 2008

The following certifications have been issued. The requirements of Section 222(a)(2)(B) (shift in production) of the Trade Act have been met.

TA-W-64,802; HR Solutions, LLC, Subsidiary of Affiliated Computer Services, Pittsburgh, PA: December 22, 2007

The following certifications have been issued. The requirements of Section 222(b) (supplier to a firm whose workers are certified eligible to apply for TAA) of the Trade Act have been met.

None

The following certifications have been issued. The requirements of Section 222(b) (downstream producer for a firm whose workers are certified eligible to apply for TAA based on increased imports from or a shift in production to Mexico or Canada) of the Trade Act have been met.

None

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-64,528; Fujifilm Manufacturing U.S.A., Inc., Greenwood, SC: November 24, 2007

TA-W-64,876; Bridgestone Americas Tire Operations, LLC, Bato Division, LaVergne, TN: January 12, 2008

TA-W-64,905; Kelsey-Hayes Company, North American Braking and Suspension Division, Leased Workers from Sizemore, Warrenton, GA: January 14, 2008

TA-W-65,147A; Bradington-Young, LLC, Hickory Plant, On-Site Leased Workers of Manpower, Hickory, NC: February 5, 2008

TA-W-65,147B; Bradington-Young, LLC, Cover Plant, Cherryville, NC: February 5, 2008

TA-W-65,147C; Bradington-Young, LLC, Frames Plant, Cherryville, NC: February 5, 2008

TA-W-65,147; Bradington-Young, LLC, Cherryville Plant, On-Site Leased Workers of PSU Personal Services, Woodleaf, NC: February 5, 2008

TA-W-65,175; Molded Dimensions, Inc., Port Washington, WI: February 6, 2008

TA-W-65,101; Kelsey Hayes Company, North American Braking and Suspension Division, Fowlerville, MI: September 12, 2008

TA-W-64,408; Theis Precision Steel Corporation, A Subsidiary of Friedrich Gustav Their Kaltwalzwerke, Bristol, CT: November 10, 2007

TA-W-64,737A; Stillwater Mining Company, Stillwater Mine, Nye, MT: December 4, 2007

TA-W-64,737B; Stillwater Mining Company, Stillwater Metallurgical Complex, Columbus Administration and Warehouse, Columbus, MT: December 4, 2007

TA-W-64,737C; Stillwater Mining Company, East Boulder Mine, McLeod, MT: December 4, 2007

TA-W-64,737; Stillwater Mining Company, Corporation Office, Billings, MT: December 4, 2007

TA-W-64,815; Pittsburgh Corning Corporation, Subsidiary of PPG, Inc. and Corning, Inc., Port Allegany, PA: January 5, 2008

TA-W-64,875; Rosboro Lumber Company, Lumber Division, Springfield, OR: November 16, 2008

TA-W-64,983; Plum Creek Northwest Lumber, Inc., Pablo Sawmill, Leased Workers of LC Staffing, Pablo, MT: January 22, 2008

TA-W-65,086; Penn Racquet Sports, Inc., A Subsidiary of HTM USA Holdings, Phoenix, AZ: February 2, 2008

The following certifications have been issued. The requirements of Section 222(a)(2)(B) (shift in production) and Section 246(a)(3)(A)(ii) of the Trade Act have been met.

TA-W-64,944; Invista S.A.R.L., Leased Worekrs of Mundy Maintenance, Service and Operations, Waynesboro, VA: January 20, 2008

TA-W-64,967; ARRK Product Development Group, San Diego, CA: January 14, 2008

TA-W-64,985; JCIM, US-LLC, Formerly known as Plastech Engineered Products, Wauseon, OH: January 22, 2008

TA-W-64,988; Source Northwest, Inc., dba Source Window Coverings, Woodinville, WA: January 22, 2008

TA-W-65,039; Elcoteq, Inc., Richardson Division, Richardson, TX: January 29, 2008

TA-W-65,076; Pentair Water, Water Systems Division, A Subsidiary of Pentair, Delavan, WI: January 15, 2008

TA-W-65,163; International Textile Group, Burlington Worldwide, Cordova, NC: January 6, 2009

TA-W-65,172; Summit Polymers, Inc., Valley Plant, Portage, MI: January 23, 2008

TA-W-64,424; Schawk, Inc., Stamford Division Stamford, CT: November 12, 2007

TA-W-64,956; Citigroup Global Markets, Presentation Technologies Group New York, NY: January 20, 2008

TA-W-65,041; Alcatel-Lucent, Inc., Multicore Product Division, SSG Group Plano, TX: January 26, 2008

TA-W-65,051; Tyco Electronics, Carlisle, PA: January 29, 2008

TA-W-65,143; Goulds Pumps/ITT Industries, Ashland, PA: January 21, 2008

TA-W-65,186; Elkay Manufacturing Company, Elkay Distribution Company, Bolingbrook, IL: February 6, 2008

TA-W-65,198; Touch Sensor Technologies, LLC, Subsidiary of Methode Electronics, Leased Workers From Kay and Associates, Wheaton, IL: February 6, 2008

TA-W-65,200; DimcoGray Corporation, Molding Department Centerville, OH: February 6, 2008

TA-W-65,220; Allied Motion Motor Equipment, Owosso, MI: February 9, 2008

The following certifications have been issued. The requirements of Section 222(b) (supplier to a firm whose workers are certified eligible to apply for TAA) and Section 246(a)(3)(A)(ii) of the Trade Act have been met.

TA-W-64,974; Fredon Development Industries, LLC, Newton, NJ: January 23, 2008

TA-W-64,421; Pacific Automotive Components and Systems International, ImLay City, MI: November 12, 2007

TA-W-64,870; Molded Fiber Glass Co., Stevenson, WA: January 12, 2008

TA-W-64,902; Shin Etsu Handoti America, Inc., Leased Workers of Volt and Kelly Temporary, Vancouver, WA: January 14, 2008

TA-W-64,960; Pax Machine Works, Inc., Celina, OH: January 21, 2008

TA-W-65,102; Kelsey Hayes Company, North American Braking and Suspension Division Fenton, MI: February 3, 2008

TA-W-65,178; Louis Lavitt Company, Inc., Hickory, NC: February 6, 2008

The following certifications have been issued. The requirements of Section 222(b) (downstream producer for a firm whose workers are certified eligible to apply for TAA based on increased imports from or a shift in production to Mexico or Canada) and Section 246(a)(3)(A)(ii) of the Trade Act have been met.

None

Negative Determinations for Alternative Trade Adjustment Assistance

In the following cases, it has been determined that the requirements of 246(a)(3)(A)(ii) have not been met for the reasons specified.

The Department has determined that criterion (1) of Section 246 has not been met. The firm does not have a significant number of workers 50 years of age or older.

TA-W-64,952; Heritage Footwear, Inc., Fort Payne, AL

The Department has determined that criterion (2) of Section 246 has not been met. Workers at the firm possess skills that are easily transferable.

TA-W-64,802; HR Solutions, LLC, Subsidiary of Affiliated Computer Services, Pittsburgh, PA

The Department has determined that criterion (3) of Section 246 has not been met. Competition conditions within the workers' industry are not adverse.

None

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-64,420; Nordyne, Inc., On-Site Leased Workers From Lifestyle Staffing Poplar Bluff, MO.

The investigation revealed that criteria (a)(2)(A)(I.B.) (Sales or production, or both, did not decline) and (a)(2)(B)(II.B.) (shift in production to a foreign country) have not been met.

The investigation revealed that criteria (a)(2)(A)(I.C.) (increased imports) and (a)(2)(B)(II.B.) (shift in production to a foreign country) have not been met.

TA-W-64,186; American Polymers, Inc., Oxford, MA.

TA-W-64,793; Lukas Confections, Inc., dba The Classic Caramel Co., York, PA.

TA-W-64,846; Tracker Marine Group, LLC, Bolivar, MO.

TA-W-64,875A; Rosboro Lumber Company, Plywood Division Springfield, OR.

TA-W-64,875B; Rosboro Lumber Company, Glulam Beams Division Springfield, OR.

TA-W-65,252; Hutchinson Technology, Inc., Plymouth, MN.

TA-W-65,160; Hutchinson Technology, Inc., Hutchinson, MN.

The workers' firm does not produce an article as required for certification under Section 222 of the Trade Act of 1974.

TA-W-64,912; Road and Rail Services, Venice, IL.

TA-W-65,013; Axcelis Technologies, Global Customer Operations, Portland, OR.

TA-W-65,021; EcoLab, Inc., Accounts Receivable Division, Research and Development Division, Eagan, MN.

The investigation revealed that criteria of Section 222(b)(2) has not been met. The workers' firm (or subdivision) is not a supplier to or a downstream producer for a firm whose workers were certified eligible to apply for TAA.

TA-W-64,570; ZF Lemforder, LLC, Chicago, IL.

I hereby certify that the aforementioned determinations were issued during the period of February 17 through February 20, 2009. Copies of these determinations are available for inspection in Room N-5428, U.S. Department of Labor, 200 Constitution Avenue, NW., Washington, DC 20210 during normal business hours or will be mailed to persons who write to the above address.

Linda G. Poole,
Certifying Officer, Division of Trade Adjustment Assistance.
Dated: March 3, 2009.

[FR Doc. E9-5037 Filed 3-9-09; 8:45 am]

BILLING CODE 4510-FN-P